DEPARTMENT OF TRANSPORTATION

Federal Aviation Administration

14 CFR Part 39

[Docket No. FAA-2015-1981; Directorate Identifier 2014-NM-204-AD; Amendment 39-18362; AD 2016-01-03]

RIN 2120-AA64

Airworthiness Directives; Airbus Airplanes

AGENCY: Federal Aviation Administration (FAA), Department of Transportation (DOT).

ACTION: Final rule.

SUMMARY: We are adopting a new airworthiness directive (AD) for certain Airbus Model A330-200 Freighter, A330-200, A330-300, A340-200, and A340-300 series airplanes. This AD was prompted by reports that the inner bore of some main landing gear (MLG) unit bogie beams were insufficiently re-protected against corrosion after inspection or maintenance actions were accomplished. This AD requires for certain MLG units, determining which revision of the component maintenance manual (CMM) was used to accomplish the most recent MLG unit overhaul; a detailed inspection for missing or damaged paint, and if necessary, a detailed inspection of the cadmium plating for discrepancies, measurement of the depth of the cadmium plating, a general visual inspection of the base metal for corrosion or damage, a detailed inspection of repaired areas for cracking or corrosion; and corrective actions if necessary. We are issuing this AD to detect and correct corrosion in the bore of each MLG unit bogie beam, which could result in collapse of a MLG unit, and subsequent damage to the airplane and injury to occupants.

DATES: This AD becomes effective February 17, 2016.

The Director of the Federal Register approved the incorporation by reference of certain publications listed in this AD as of February 17, 2016.

ADDRESSES: You may examine the AD docket on the Internet at http://www.regulations.gov/#!docketDetail;D=FAA-2015-1981; or in person at the Docket Management Facility, U.S. Department of Transportation, Docket Operations, M-30, West Building Ground Floor, Room W12-140, 1200 New Jersey Avenue SE., Washington, DC.

For Airbus service information identified in this AD, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com. For Messier-Dowty service information contact Messier-Dowty Limited, Cheltenham Road, Gloucester, GL2 9QH, England; telephone +44(0) 1452 712424; fax+ 44(0) 1452 713821; Internet http://www.safranmbd.com. You may view this referenced service information at the FAA, Transport Airplane Directorate, 1601 Lind Avenue SW., Renton, WA. For information on the availability of this material at the FAA, call 425-227-1221. It is also available on the Internet at http://www.regulations.gov by searching for and locating Docket No. FAA-2015-1981.

FOR FURTHER INFORMATION CONTACT: Vladimir Ulyanov, Aerospace Engineer, International Branch, ANM 116, Transport Airplane Directorate, FAA, 1601 Lind Avenue SW., Renton, WA 98057-3356; telephone 425-227-1138; fax 425-227-1149.

SUPPLEMENTARY INFORMATION:

Discussion

We issued a notice of proposed rulemaking (NPRM) to amend 14 CFR part 39 by adding an AD that would apply to certain Airbus Model A330-200 Freighter, A330-200, A330-300, A340-200, and A340-300 series airplanes. The NPRM published in the Federal Register on June 15, 2015 (80 FR 34098).

The European Aviation Safety Agency (EASA), which is the Technical Agent for the Member States of the European Union, has issued EASA Airworthiness Directive 2014-0222, dated October 6, 2014 (referred to after this as the Mandatory Continuing Airworthiness Information, or “the MCAI”), to correct an unsafe condition for certain Airbus Model A330-200 Freighter, A330-200, A330-300, A340-200, and A340-300 series airplanes. The MCAI states:

From in-service experience, it was found that the inner bore of some bogie beams had been insufficiently re-protected against corrosion after inspection and/or possible maintenance actions accomplished in this area (absence of corrosion inhibitor and damage to paint have been found in some specific areas).

This condition, if not detected and corrected, could lead to corrosion on the bore of the bogie beam, potentially resulting in Main Landing Gear (MLG) collapse, ultimately resulting in damage to the aeroplane and injury to the occupants.

To address this potential unsafe condition, Airbus issued Alert Operators Transmission (AOT) A32L004-14, providing inspection instructions for some aeroplane configurations.

For the reasons described above, this [EASA] AD requires identification of the MLG units that are possibly affected, [a detailed] inspection [for missing or damaged paint] of the MLG Bogie Beam bore and, depending on findings, accomplishment of the applicable corrective actions.

This [EASA] AD also prohibits the installation of MLG units that have been overhauled by using instructions from an earlier Components Maintenance Manual (CMM) revision.

Required actions also include a detailed inspection of the cadmium plating for discrepancies (gray in color), measurement of the depth of the cadmium plating if necessary, and a general visual inspection of the base metal for corrosion or damage, and a detailed inspection of repaired areas for cracking or corrosion. Corrective actions include removing cadmium plating and repairing any cracked, corroded, or damaged areas; re-applying cadmium plating and paint; and re-applying temporary corrosion protection to the bores of the MLG bogie beams.

You may examine the MCAI in the AD docket on the Internet at http://www.regulations.gov/#!documentDetail;D=FAA-2015-1981-0002.

Comments

We gave the public the opportunity to participate in developing this AD. We have considered the comments received. The following presents the comments received on the NPRM (80 FR 34098, June 15, 2015) and the FAA's response to each comment.

Request for Clarification of Optional Method of Compliance

Air France and American Airlines (AA) requested that paragraph (j) of the proposed AD (80 FR 34098, June 15, 2015) be revised to clarify that after accomplishment of the actions in the Accomplishment Instructions of Messier-Dowty Service Bulletin A33/34-32-272, dated November 16, 2007, including Appendixes A, B, C, and D, dated November 16, 2007; or Service Bulletin A33/34-32-272, Revision 1, dated September 22, 2008, including Appendixes A, B, C, and D, dated September 22, 2008; the actions specified in the Messier-Dowty service information identified in paragraphs (j)(1) through (j)(5) of the proposed AD must not be accomplished on that same MLG unit.

We agree with the commenters' request and have revised paragraph (j) of this AD to clarify that after accomplishment of the actions in the Accomplishment Instructions of Messier-Dowty Service Bulletin A33/34-32-272, dated November 16, 2007, including Appendixes A, B, C, and D, dated November 16, 2007; or Service Bulletin A33/34-32-272, Revision 1, dated September 22, 2008, including Appendixes A, B, C, and D, dated September 22, 2008; the actions specified in the Messier-Dowty service information identified in paragraphs (j)(1) through (j)(5) of this AD must not be accomplished on that same MLG unit. The actions in the Accomplishment Instructions of Messier-Dowty service information identified in paragraphs (j)(1) through (j)(5) do not provide sufficient corrosion protection for the MLG units.

Request To Correct Service Information Reference

Air France requested that the references to the Airbus component maintenance manual in paragraph (g) of the proposed AD be changed to Messier-Dowty component maintenance manual.

We agree with the commenter's request because the component maintenance manuals were published by Messier-Dowty, not Airbus. We have revised paragraphs (g) and (k) of this AD accordingly.

Conclusion

We reviewed the relevant data, considered the comments received, and determined that air safety and the public interest require adopting this AD with the changes described previously and minor editorial changes. We have determined that these minor changes:

• Are consistent with the intent that was proposed in the NPRM (80 FR 34098, June 15, 2015) for correcting the unsafe condition; and

• Do not add any additional burden upon the public than was already proposed in the NPRM (80 FR 34098, June 15, 2015).

We also determined that these changes will not increase the economic burden on any operator or increase the scope of this AD.

Related Service Information Under 1 CFR Part 51

Airbus has issued Alert Operators Transmission A32L004-14, dated July 28, 2014, including Appendixes 1, 2, 3, and 4. This service information describes procedures for inspections of the bogie beam bore of the MLG.

Messier-Dowty has issued the following service information, which describes procedures for inspections of the internal diameter of the bogie beam for corrosion.

• Service Bulletin A33/34-32-272, dated November 16, 2007, including Appendixes A, B, C, and D, dated November 16, 2007.

• Service Bulletin A33/34-32-272, Revision 1, dated September 22, 2008, including Appendixes A, B, C, and D, dated September 22, 2008.

This service information is reasonably available because the interested parties have access to it through their normal course of business or by the means identified in the ADDRESSES section.

Costs of Compliance

We estimate that this AD affects 89 airplanes of U.S. registry.

We also estimate that it will take about 12 work-hours per product to comply with the basic requirements of this AD, and 1 work-hour to report the inspection findings. The average labor rate is $85 per work-hour. Based on these figures, we estimate the cost of this AD on U.S. operators to be $98,345, or $1,105 per product.

We have received no definitive data that would enable us to provide cost estimates for any necessary follow-on actions.

Paperwork Reduction Act

A federal agency may not conduct or sponsor, and a person is not required to respond to, nor shall a person be subject to penalty for failure to comply with a collection of information subject to the requirements of the Paperwork Reduction Act unless that collection of information displays a current valid OMB control number. The control number for the collection of information required by this AD is 2120-0056. The paperwork cost associated with this AD has been detailed in the Costs of Compliance section of this document and includes time for reviewing instructions, as well as completing and reviewing the collection of information. Therefore, all reporting associated with this AD is mandatory. Comments concerning the accuracy of this burden and suggestions for reducing the burden should be directed to the FAA at 800 Independence Ave. SW., Washington, DC 20591, ATTN: Information Collection Clearance Officer, AES-200.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

Examining the AD Docket

You may examine the AD docket on the Internet at http://www.regulations.gov/#!docketDetail;D=FAA-2015-1981; or in person at the Docket Management Facility between 9 a.m. and 5 p.m., Monday through Friday, except Federal holidays. The AD docket contains this AD, the regulatory evaluation, any comments received, and other information. The street address for the Docket Operations office (telephone 800-647-5527) is in the ADDRESSES section.075

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2016-01-03 Airbus: Amendment 39-18362. Docket No. FAA-2015-1981; Directorate Identifier 2014-NM-204-AD.

(a) Effective Date

This AD becomes effective February 17, 2016.

(b) Affected ADs

None.

(c) Applicability

This AD applies to Airbus airplanes, certificated in any category, identified in paragraphs (c)(1) and (c)(2) of this AD.

(1) Model A330-201, A330-202, A330-203, A330-223, A330-223F, A330-243, A330-243F, A330-301, A330-302, A330-303, A330-321, A330-322, A330-323, A330-341, A330-342, and A330-343 airplanes; all manufacturer serial numbers; except those on which Airbus Modification 58896 has been embodied in production or embodied through Airbus Service Bulletin A330-32-3237.

(2) Model A340-211, A340-212, A340-213, A340-311, A340-312, and A340-313 airplanes; all manufacturer serial numbers; except those on which Airbus Modification 58896 has been embodied in production or embodied through Airbus Service Bulletin A340-32-4279.

(d) Subject

Air Transport Association (ATA) of America Code 32, Landing Gear.

(e) Reason

This AD was prompted by reports that the inner bore of some main landing gear (MLG) unit bogie beams were insufficiently re-protected against corrosion after inspection or maintenance actions were accomplished. We are issuing this AD to detect and correct corrosion in the bore of each MLG unit bogie beam, which could result in collapse of a MLG unit, and subsequent damage to the airplane and injury to occupants.

(f) Compliance

Comply with this AD within the compliance times specified, unless already done.

(g) Identification of Affected MLG Units

Within 12 months after the effective date of this AD: For MLG units having a 201252 series or 201490 series part number, determine the revision of the Messier-Dowty component maintenance manual (CMM) used to do the most recent MLG unit overhaul. If it is determined that the Messier-Dowty CMM revision specified in paragraph (g)(1) or (g)(2) of this AD was used to accomplish the most recent MLG unit overhaul: Within 12 months after the effective date of this AD, clean the area between the bogie pivot pin and the bogie beam bore of each MLG unit and do a detailed inspection for missing or damaged paint, in accordance with Airbus Alert Operators Transmission A32L004-14, dated July 28, 2014, including Appendixes 1, 2, 3, and 4, which do not have a date.

(1) For MLG units having a part number in the 201252 series: Messier-Dowty CMM 32-11-74, Revision 25 or earlier.

(2) For MLG units having a part number in the 201490 series: Messier-Dowty CMM 32-12-05, Revision 20 or earlier.

(h) Inspection of Cadmium Plating

If, during the inspection required by paragraph (g) of this AD, any missing or damaged paint is found: Before further flight, do a detailed inspection of the cadmium plating for discrepancies, measure the depth of the plating as applicable, and do a general visual inspection of the base metal for corrosion or damage, in accordance with Airbus Alert Operators Transmission A32L004-14, dated July 28, 2014, including Appendixes 1, 2, 3, and 4, which do not have a date. If any discrepancy, damage, or corrosion is found, before further flight, do all applicable corrective actions, and do a detailed inspection of repaired areas for cracking or corrosion, in accordance with Airbus Alert Operators Transmission A32L004-14, dated July 28, 2014, including Appendixes 1, 2, 3, and 4, which do not have a date, except where Airbus Alert Operators Transmission A32L004-14, dated July 28, 2014, including Appendixes 1, 2, 3, and 4, specifies to contact Messier-Dowty if cracking or corrosion is found in a repaired area, before further flight, repair using a method approved by the Manager, International Branch, ANM-116, Transport Airplane Directorate, FAA; or the European Aviation Safety Agency (EASA); or Airbus's EASA Design Organization Approval (DOA).

(i) Reporting Requirement

At the applicable time specified in paragraph (i)(1) or (i)(2) of this AD, report the findings of the inspection required by paragraph (g) of this AD to Airbus, Customer Services Engineering—SEEL1, Attn: Philippe Kerangueven, Product Leader A330/A340, ATA-32, Landing Gear Systems, 1 Rond Point Maurice Bellonte, 31707 Blagnac Cedex, France; phone +33 (0) 5 67 19 18 42; fax +33 0 5 67 19 12 05; email philippe.kerangueven@airbus.com. The report must include the information specified in Appendix 2 of Airbus Alert Operators Transmission A32L004-14, dated July 28, 2014.

(1) If the inspection was done on or after the effective date of this AD: Within 90 days after that inspection.

(2) If the inspection was done before the effective date of this AD: Within 90 days after the effective date of this AD.

(j) Optional Method of Compliance

Accomplishment of the boroscope inspection of the internal diameter of the bogie beam for corrosion or damage to the protective treatments, measurement of the depth of the protective treatments as applicable, and accomplishment of all applicable corrective actions, in accordance with the Accomplishment Instructions of Messier-Dowty Service Bulletin A33/34-32-272, dated November 16, 2007, including Appendixes A, B, C, and D, dated November 16, 2007; or Revision 1, dated September 22, 2008, including Appendixes A, B, C, and D, dated September 22, 2008; are acceptable for the corresponding actions required by paragraphs (g) and (h) of this AD for that MLG unit; however, after accomplishment of the actions in the Accomplishment Instructions of Messier-Dowty Service Bulletin A33/34-32-272, dated November 16, 2007, including Appendixes A, B, C, and D, dated November 16, 2007; or Service Bulletin A33/34-32-272, Revision 1, dated September 22, 2008, including Appendixes A, B, C, and D, dated September 22, 2008; the actions specified in the Messier-Dowty service information identified in paragraphs (j)(1) through (j)(5) of this AD must not be accomplished on that same MLG unit. Where Messier-Dowty Service Bulletin A33/34-32-272, dated November 16, 2007, including Appendixes A, B, C, and D, dated November 16, 2007; or Revision 1, dated September 22, 2008, including Appendixes A, B, C, and D, dated September 22, 2008; specify to contact Messier-Dowty for repair information, the repair must be accomplished using a method approved by the Manager, International Branch, ANM-116, Transport Airplane Directorate, FAA; or EASA; or Airbus's EASA DOA.

(1) Messier-Dowty Service Bulletin A33/34 32-285, dated July 9, 2010.

(2) Messier-Dowty Service Bulletin A33/34 32-285, Revision 1, dated October 4, 2011.

(3) Messier-Dowty Service Bulletin A33/34 32-285, Revision 2, dated October 4, 2012.

(4) Messier-Dowty Service Bulletin A33/34 32-285, Revision 3, dated September 11, 2013.

(5) Messier-Dowty Service Bulletin A33/34 32-285, Revision 4, dated January 23, 2014.

Note 1 to paragraph (j) of this AD: Inspections done using the instructions in Messier-Dowty Service Bulletin A33/34-32-285, Revision 5, dated August 14, 2014, do not affect the optional method of compliance provided by this paragraph.

(k) Parts Installation Limitation

As of the effective date of this AD, any overhauled MLG unit having a 201252 series or 201490 series part number may be installed on an airplane, provided the most recent MLG overhaul was done using a Messier-Dowty CMM that is not specified in paragraph (g)(1) or (g)(2) of this AD, or, prior to installation, the MLG unit passes the inspection required by paragraph (g) of this AD.

(l) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA, 1601 Lind Avenue SW., Renton, WA 98057-3356; telephone 425-227-1138; fax 425 227 1149. Information may be emailed to: 9 ANM-116-AMOC-REQUESTS@faa.gov. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, International Branch, ANM-116, Transport Airplane Directorate, FAA; or EASA; or Airbus's EASA DOA. If approved by the DOA, the approval must include the DOA-authorized signature.

(3) Reporting Requirements: A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES 200.

(m) Related Information

Refer to Mandatory Continuing Airworthiness Information (MCAI) EASA Airworthiness Directive 2014-0222, dated October 6, 2014, for related information. This MCAI may be found in the AD docket on the Internet at http://www.regulations.gov/#!documentDetail;D=FAA-2015-1981-0002.

(n) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus Alert Operators Transmission A32L004-14, dated July 28, 2014, including Appendixes 1, 2, 3, and 4, which are not dated.

(ii) Messier-Dowty Service Bulletin A33/34-32-272, dated November 16, 2007, including Appendixes A, B, C, and D, dated November 16, 2007.

(iii) Messier-Dowty Service Bulletin A33/34-32-272, Revision 1, dated September 22, 2008, including Appendixes A, B, C, and D, dated September 22, 2008.

(3) For Airbus service information identified in this AD, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com.

(4) For Messier-Dowty service information identified in this AD, contact Messier-Dowty Limited, Cheltenham Road, Gloucester, GL2 9QH, England; telephone +44(0) 1452 712424; fax+ 44(0) 1452 713821; Internet http://www.safranmbd.com.

(5) You may view this service information at the FAA, Transport Airplane Directorate, 1601 Lind Avenue SW., Renton, WA. For information on the availability of this material at the FAA, call 425-227-1221.

(6) You may view this service information that is incorporated by reference at the National Archives and Records Administration (NARA). For information on the availability of this material at NARA, call 202-741-6030, or go to: http://www.archives.gov/federal-register/cfr/ibr-locations.html.

Issued in Renton, Washington, on December 29, 2015.
Philip Forde,
Acting Manager, Transport Airplane Directorate, Aircraft Certification Service.

[FR Doc. 2015-33289 Filed 1-12-16; 8:45 am]

BILLING CODE 4910-13-P